DEPARTMENT OF COMMERCE

National Oceanic and Atmospheric Administration (NOAA)

Marine Protected Areas Federal Advisory Committee; Public Meeting

AGENCY: National Ocean Service, NOAA, Department of Commerce.

ACTION: Notice of open meeting.

SUMMARY: Notice is hereby given of the fourth meeting of the Marine Protected Areas Federal Advisory Committee (MPAFAC) in Maui, Hawaii.

DATES: The meeting will be held Tuesday, September 21, from 8 a.m. to 5 p.m., Wednesday, September 22, from 8 a.m. to 5 p.m., and Thursday, September 23, from 8 a.m. to 5 p.m. These times and the agenda topics described below may be subject to change. Refer to the web page listed below for the most up-to-date meeting agenda.

ADDRESSES: The meeting will be held at the Renaissance Wailea, 3550 Wailea Alanui Drive, Wailea, Hawaii 96753.

FOR FURTHER INFORMATION CONTACT: Lauren Wenzel, Designated Federal Officer, MPAFAC, National Marine Protected Areas Center, 1305 East-West Highway, Silver Spring, Maryland 20910. (Phone: 301-713-3100 x136, Fax: 301-713-3110); e-mail: lauren.wenzel@noaa.gov; or visit the national MPA Center Web site at https://www.mpa.gov).

SUPPLEMENTARY INFORMATION: The MPAFAC, composed of external, knowledgeable representatives of stakeholder groups, has been established by the Department of Commerce to provide advice to the Secretaries of Commerce and Interior on implementation of section 4 of Executive Order 13158 on MPAs. The meeting will be open to public participation, with a one hour time period set aside from 4 p.m. to 5 p.m. on Tuesday, September 21, 2004, and one hour set aside from 8:10 a.m. to 9:10 a.m. on Thursday, September 23, 2004 for the Committee to receive verbal comments or questions from the public. In general, each individual or group making a verbal presentation will be limited to a total time of five (5) minutes. Copies of written statements should be submitted to the Designated Federal Official by Friday, September 17, 2004.

Matters To Be Considered: On Tuesday, September 21, the three Subcommittees that have been established will meet: (1) National System of MPAs; (2) Stewardship and Effectiveness of MPAs; and (3) National and Regional Coordination of MPA Efforts. The Subcommittees will report on their work to the full Committee and then resume their work. On Tuesday afternoon, the Committee will hear from speakers on cultural aspects of marine management and then will receive comments from the public.

On Wednesday, September 22, the Subcommittees will meet, and the Committee will receive provisional reports from the Subcommittees. In the afternoon, the Committee members will hear from representatives of four Regional Fishery Management Councils.

On Thursday, September 23, the Committee will receive comments from the public. The Subcommittees will then meet. The full Committee will meet to further consider Subcommittee reports and to discuss the timing and agenda for the next meeting. They will then hear speakers on Pacific Island marine protected area management.

On Friday, September 24, the Committee will visit Hulapoe Marine Reserve on the island of Lana'i.

Dated: August 17, 2004.
Eldon Hout,
Director, Office of Ocean and Coastal Resource Management.

DRAFT Agenda—Marine Protected Areas Federal Advisory Committee, Renaissance Wailea, 3550 Wailea Drive, Maui, Hawaii, September 21-24, 2004

Tuesday, September 21

7:30 Sign-In by All Participants

8 Call to Order

8:05 Committee Business

• Approval of Minutes of April 2004 meeting

• Review of Agenda

• MPA Center Update

9 Subcommittees Meet

1. Developing a National System of MPAs

2. Stewardship and MPA Effectiveness

3. National and Regional Coordination of MPA Efforts

10 Full Committee Receives Provisional Reports by Subcommittees

12 Working Lunch—in Subcommittees

1 Subcommittees Meet

2:30 Panel Presentation—Culture and the Sea, Moderator: Bonnie McCay

• Craig Severance, University of Hawaii, Anthropology Dept.

• William Aila

• Edward Glazier, Director of Research, Impact Assessment, Inc.

3:50 BREAK

4 Public Comment Period

5 Adjourn for the Day

6 Committee Dinner

Wednesday, September 22

7:30 Sign In By All Participants

8 Call to Order

8:05 Subcommittees Meet

10 Break

10:15 Subcommittees Meet

12:30 Lunch

1:30 Full Committee Receives Provisional Reports from Subcommittees

3:15 Break

3:30 Panel Presentation—Fishery Management Councils, Moderator: (TBD)

• Roy Morioka, Chair, Western Pacific FMC

• Stephanie Madsen, Chair, North Pacific FMC

• Dan Waldeck, Staff, Pacific FMC

• Eugenio Pineiro-Soler, Chair, Caribbean FMC

5 Adjourn for the Day

Thursday, September 23

7:30 Sign In by All Participants

8 Call to Order

8:10 Public Comment Period

9:10 Subcommittees Meet

12 Lunch

1 Full Committee Receives Subcommittee Reports

2:30 Committee Business

• Follow up for next meeting

• Logistics for next meeting

• Other items

3 Break

3:10 Panel Presentation—Pacific Island MPA Management, Moderator: Terry O'Halloran

• Incorporating Tenants of Traditional Marine Resource Management

◦ Apelu Aitaoto, American Samoa

◦ Delegate Noah Idechong, Palau

• User Group Perspectives—Jim Coon, Trilogy Excursions

• Inter-jurisdictional Coordination—Jim Maragos, US Fish and Wildlife Service

5 Adjourn

5:30 Reception with Members of the Hawaii Humpback Whale National Marine Sanctuary Advisory Committee and FAC Guests

Friday, September 24

10-6:30 Field visit to Hulapoe Marine Reserve on the island of Lana'i.

[FR Doc. 04-19694 Filed 8-27-04; 8:45 am]

BILLING CODE 3510-08-P